DEPARTMENT OF HEALTH AND HUMAN SERVICES

Health Resources and Services Administration

Meeting of the National Advisory Committee on Rural Health and Human Services

AGENCY: Health Resources and Services Administration (HRSA), Department of Health and Human Services.

ACTION: Notice.

SUMMARY: In accordance with the Federal Advisory Committee Act, this notice announces that the Secretary's National Advisory Committee on Rural Health and Human Services (NACRHHS) has scheduled a public meeting. Information about NACRHHS and the agenda for this meeting can be found on the NACRHHS website at: https://www.hrsa.gov/advisory-committees/rural-health/index.html.

DATES: Tuesday, April 9, 2024, 9 a.m.-5 p.m. central time (CT); Wednesday, April 10, 2024, 9 a.m.-5 p.m. CT; Thursday, April 11, 2024, 9 a.m.-12 p.m. CT.

ADDRESSES: This meeting will be held at the Hyatt House, 901 Neches Street, Austin, Texas 78701. The meeting will also be accessible to the public via Zoom. Please use the following information to join the meeting: https://us02web.zoom.us/j/83119377601.

Or One tap mobile:

+13052241968,,83119377601# U.S.

+19294362866,,83119377601# U.S. (New York)

Or Telephone:

Dial (for higher quality, dial a number based on your current location):

+1 305 224 1968 U.S.

+1 929 436 2866 U.S. (New York)

+1 301 715 8592 U.S. (Washington, DC)

+1 312 626 6799 U.S. (Chicago)

+1 669 900 6833 U.S. (San Jose)

+1 253 215 8782 U.S. (Tacoma)

+1 346 248 7799 U.S. (Houston)

Webinar ID: 831 1937 7601

International numbers available: https://us02web.zoom.us/u/kwqsKE6sY.

FOR FURTHER INFORMATION CONTACT: Sahira Rafiullah, Executive Secretary of NACRHHS, 5600 Fishers Lane, Rockville, Maryland 20857; 240-316-5874; or srafiullah@hrsa.gov.

SUPPLEMENTARY INFORMATION: NACRHHS provides advice and recommendations to the Secretary of Health and Human Services on policy, program development, and other matters of significance concerning both rural health and rural human services. At this meeting, NACRHHS will discuss two topics: technology and innovation in rural health and quality reporting by rural health clinics. Members of the public will have the opportunity to provide comments.

Public participants wishing to provide oral comments must submit a written version of their statement at least 3 business days in advance of the scheduled meeting. Oral comments will be honored in the order they are requested and may be limited as time permits. Public participants wishing to offer a written statement should send it to Sahira Rafiullah, using the contact information above, at least 3 business days prior to the meeting. Individuals who plan to attend in person and need special assistance or another reasonable accommodation should notify Sahira Rafiullah at the address and phone number listed above at least 10 business days prior to the meeting.

Maria G. Button,
Director, Executive Secretariat.

[FR Doc. 2024-03823 Filed 2-23-24; 8:45 am]

BILLING CODE 4165-15-P